DEPARTMENT OF THE INTERIOR

Minerals Management Service

[Docket No. MMS-2007-OMM-0078]

MMS Information Collection Activity: 1010-0041 Oil and Gas Production Rates, Extension of a Collection; Submitted for Office of Management and Budget (OMB) Review; Comment Request

AGENCY: Minerals Management Service (MMS), Interior.

ACTION: Notice of extension of an information collection (1010-0041).

SUMMARY: To comply with the Paperwork Reduction Act of 1995 (PRA), we are notifying the public that we have submitted to OMB an information collection request (ICR) to renew approval of the paperwork requirements in the regulations under 30 CFR part 250, subpart K, Oil and Gas Production Rates, and related documents. This notice also provides the public a second opportunity to comment on the paperwork burden of these regulatory requirements.

DATES: Submit written comments by July 30, 2008.

ADDRESSES: You should submit comments directly to the Office of Information and Regulatory Affairs, OMB, Attention: Desk Officer for the Department of the Interior (1010-0041), either by fax (202) 395-6566 or e-mail (OIRA_DOCKET@omb.eop.gov).

Please also send a copy to MMS by either of the following methods:

• http://www.regulations.gov. Under the tab “More Search Options,” click Advanced Docket Search, then select “Minerals Management Service” from the agency drop-down menu, then click “submit.” In the Docket ID column, select MMS-2007-OMM-0078 to submit public comments and to view supporting and related materials available for this rulemaking. Information on using Regulations.gov, including instructions for accessing documents, submitting comments, and viewing the docket after the close of the comment period, is available through the site's “User Tips” link. The MMS will post all comments.

• Mail or hand-carry comments to the Department of the Interior; Minerals Management Service; Attention: Cheryl Blundon; 381 Elden Street, MS-4024; Herndon, Virginia 20170-4817. Please reference “Information Collection 1010-0041” in your subject line and mark your message for return receipt. Include your name and return address in your message text.

FOR FURTHER INFORMATION CONTACT: Cheryl Blundon, Regulations and Standards Branch, (703) 787-1607. You may also contact Cheryl Blundon to obtain a copy, at no cost, of the regulations and forms that require the subject collection of information.

SUPPLEMENTARY INFORMATION: Title: 30 CFR part 250, subpart K, Oil and Gas Production Rates.

Forms: MMS-126, MMS-127, MMS-128, and MMS-140.

OMB Control Number: 1010-0041.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 5(a) of the OCS Lands Act requires the Secretary to prescribe rules and regulations “to provide for the prevention of waste, and conservation of the natural resources of the Outer Continental Shelf, and the protection of correlative rights therein” and to include provisions “for the prompt and efficient exploration and development of a lease area.”

Section 1334(g)(2) states “ * * * the lessee shall produce such oil or gas, or both, at rates * * * to assure the maximum rate of production which may be sustained without loss of ultimate recovery of oil or gas, or both, under sound engineering and economic principles, and which is safe for the duration of the activity covered by the approved plan.”

In addition, MMS also issues various Notices to Lessees (NTLs) and Operators to clarify and provide additional guidance on some aspects of the regulations, as well as various forms to capture the data and information. The current subpart K regulations specify the use of forms MMS-126 (Well Potential Test Report), MMS-127 (Sensitive Reservoir Information Report), MMS-128 (Semiannual Well Test Report) and form MMS-140 (Bottomhole Pressure Survey Report). Form MMS-140 is used in the Gulf of Mexico OCS Region (GOMR) for submitting the results of static bottomhole pressure surveys required under § 250.1104(c).

Regulations implementing these responsibilities are under 30 CFR part 250. Responses are mandatory or are required to obtain or retain a benefit. No questions of a “sensitive” nature are asked. The MMS protects information considered proprietary under the Freedom of Information Act (5 U.S.C. 552) and its implementing regulations (43 CFR 2), and under regulations at 30 CFR part 250.197, “Data and information to be made available to the public or for limited inspection,” 30 CFR part 252, “OCS Oil and Gas Information Program.” Proprietary information concerning geological and geophysical data will be protected according to 43 U.S.C. 1352.

The information collected under subpart K is used in our efforts to conserve natural resources, prevent waste, and protect correlative rights, including the Government's royalty interest. Specifically, MMS uses the information to:

• Evaluate requests to burn liquid hydrocarbons and vent and flare gas to ensure that these requests are appropriate;

• To determine if a maximum production or efficient rate is required; and,

• To review applications for downhole commingling to ensure that action does not result in harm to ultimate recovery.

Forms are also submitted to MMS and their purposes are:

Form 126—Well Potential Test Report—The MMS uses this information for reservoir, reserves, and conservation analyses, including the determination of maximum production rates (MPRs) when necessary for certain oil and gas completions. This requirement implements the conservation provisions of the OCS Lands Act and 30 CFR part 250. The information obtained from the well potential test is essential to determine if an MPR is necessary for a well and to establish the appropriate rate. It is not possible to specify an MPR in the absence of information about the production rate capability (potential) of the well.

Form MMS-127, Sensitive Reservoir Information Report—The MMS uses this information to determine whether a rate-sensitive reservoir is being prudently developed. This represents an essential control mechanism that MMS may use to regulate production rates from sensitive reservoirs. Occasionally, the information available on a reservoir, early in its producing life, may indicate it to be non-sensitive, while later and more complete information would establish the reservoir as being sensitive. Production from a well completed in the gas cap of a sensitive reservoir requires approval from the Regional Supervisor. The information submitted on this form provides reservoir parameters that are revised at least annually or sooner if reservoir development results in a change in reservoir interpretation. The engineers and geologists use the information for rate control and reservoir studies

Form MMS-128, Semiannual Well Test Report—The MMS uses this information to evaluate the results of well tests to determine if reservoirs are being depleted in a manner that will lead to the greatest ultimate recovery of hydrocarbons. This information is collected to determine the capability of hydrocarbon wells and to evaluate and verify an operator's approved maximum production rate if assigned. The form was designed to present current well data on a semiannual basis to permit the updating of permissible producing rates, and to provide the basis for estimates of currently remaining recoverable gas reserves.

Form MMS-140, Bottomhole Pressure Survey Report—The MMS uses the information to effectively manage reservoirs in our efforts to conserve natural resources, prevent waste, and protect correlative rights, including the Government's royalty interest. Specifically, MMS uses the information in reservoir evaluations to determine maximum production and efficient rates; and to review applications for downhole commingling to ensure that action does not result in harm to ultimate recovery or undervalued royalties.

Frequency: On occasion, monthly, semi-annually, annually, and as a result of situations encountered.

Estimated Number and Description of Respondents: Approximately 130 Federal oil and gas lessees.

Estimated Reporting and Recordkeeping “Hour” Burden: The estimated annual “hour” burden for this information collection is a total of 41,511 hours. The following chart details the individual components and estimated hour burdens. In calculating the burdens, we assumed that respondents perform certain requirements in the normal course of their activities. We consider these to be usual and customary and took that into account in estimating the burden.

Citation 30 CFR 250 Subpart K | Reporting and recordkeeping requirement | Hour burden | Average No. of annual responses | Annual burden hours
| Non-Hour cost burdens
Requests
1101(b) | Request approval to produce within 500 feet of a lease line | 5 | 33 requests | 165
|  | $3,300 fee × 33 requests = $108,900
1101(c) | Request approval to produce gas cap of a sensitive reservoir | 12 | 51 requests | 612
|  | $4,200 fee × 51 requests = $214,200
1102(b)(6) | Request extension of time to submit results of semiannual well test | .5 | 37 requests | 19
1103(a) | Request approval of test periods of less than 4 hours and pretest stabilization periods of less than 6 hours | .5 | 37 requests | 19
1105(a), (b) | Request special approval to flare or vent oil-well gas | .5 | 1,007 requests | 504
1105(c) | Request approval to burn produced liquid hydrocarbons | .5 | 60 requests | 30
Subtotal |  |  | 1,225 responses | 1,349
|  |  | $323,100 non-hour cost burden
Submittals
1102 | Submit form MMS-126 | 3 | 1,325 forms | 3,975
| Submit form MMS-127 | 2.2 | 2,189 forms | 4,816
| Submit form MMS-128 * | 0.5-3 | 13,000 forms in GOM 1,336 * | 1,336 *
|  |  | 600 forms in POCS |
1102(a)(5) | Submit alternative plan for overproduction status—MMS is not currently collecting this information—this is minimal burden requirement | 1 | 1 plan | 1
1103(c) | Provide advance notice of time and date of well tests | .5 | 10 notices | 5
1104(c) | Submit results of all static bottomhole pressure surveys obtained by lessee. Information is submitted on form MMS-140 in the Gulf of Mexico Region | 14 | 1,270 surveys | 17,780
1105(f) | Submit monthly reports of flared or vented gas containing H2S | 2 | 3 operators × 12 mos. = 36 | 72
1105(f) | H2S Contingency, Exploration, or Development and Production Plans—burden covered under 1010-0141 and 1010-0049 |  |  | 0
1106 | Submit application to downhole commingle hydrocarbons | 6 | 48 applications | 288
|  | $4,900 fee × 48 applications = $235,200
1107(b) | Submit proposed plan for enhanced recovery operations | 12 | 14 plans | 168
1107(c) | Submit periodic reports of volumes of oil, gas, or other substances injected, produced, or reproduced | 2 | 77 reports | 154
1100-1107 | General departure or alternative compliance requests not specifically covered elsewhere in subpart K, including bottomhole pressure survey waivers and reservoir reclassification requests | 1 | 120 survey waivers | 120
|  | 6 | 20 requests | 120
Subtotal |  |  | 18,710 responses | 28,835
|  |  | $235,200 non-hour cost burden
Recordkeeping
1105(d), (e) | Maintain records for 2 years detailing gas flaring or venting | 13 | 869 platforms | 11,297
1105(d), (e) | Maintain records for 2 years detailing liquid hydrocarbon burning | .5 | 60 occurrences | 30
Subtotal |  |  | 929 responses | 11,327
Total Burden |  |  | 20,864 responses | 41,511
|  |  | $558,300 Non-Hour Cost Burdens
*Reporting burden for this form is estimated to average 0.5 to 3 hours per form depending on the number of well tests reported, including the time for reviewing instructions, gathering and maintaining data, and completing and reviewing the form. See breakdown for form MMS-128 above.

Estimated Reporting and Recordkeeping “Non-Hour Cost” Burden: We have identified three non-hour cost burdens. Section 250.1101(b) requires a fee for a gas cap production request. Section 250.1101(c) requires a fee to produce within 500 feet of a lease line. Section 250.1106 requests a fee for a downhole commingling request. We estimate a total reporting “non-hour cost” burden of $558,300 and we have not identified any other “non-hour cost” burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “ * * * to provide notice * * * and otherwise consult with members of the public and affected agencies concerning each proposed collection of information * * * ” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 15, 2008, we published a Federal Register notice (73 FR 2522) announcing that we would submit this ICR to OMB for approval. The notice provided the required 60-day comment period. In addition, § 250.199 provides the OMB control number for the information collection requirements imposed by the 30 CFR part 250 regulations and forms. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by July 30, 2008.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: June 16, 2008.
E.P. Danenberger,
Chief, Office of Offshore Regulatory Programs.

[FR Doc. E8-14768 Filed 6-27-08; 8:45 am]

BILLING CODE 4310-MR-P